DEPARTMENT OF HOMELAND SECURITY

Federal Emergency Management Agency

Notice of Adjustment of the Coverage Amount Under the Group Flood Insurance Program (GFIP), for Policies Issued for Disasters Declared on or Before October 14, 2002

AGENCY: Federal Emergency Management Agency, Emergency Preparedness and Response Directorate, Department of Homeland Security.

ACTION: Notice.

SUMMARY: FEMA gives notice that the coverage amount for Group Flood Insurance Policies issued by the Individual and Family Grant (IFG) program for disasters declared on or before October 14, 2002 is increased.

DATES: Effective October 1, 2004.

FOR FURTHER INFORMATION CONTACT: Berl Jones, Recovery Division, Federal Emergency Management Agency, Washington, DC 20472, (202) 646-4235.

SUPPLEMENTARY INFORMATION: 44 CFR 61.17 sets the amount of coverage under the GFIP. Although the current version of § 61.17 sets this amount as equivalent to the maximum grant amount established under section 408 of the Robert T. Stafford Disaster Relief and Emergency Assistance Act, (the Stafford Act) (42 U.S.C. 5174,) prior to October 15, 2002, this regulation set the amount of coverage as equivalent to the maximum grant amount under the Individual and Family Grant (IFG) program under section 411 of the Stafford Act (42 U.S.C. 5178) see 67 FR 61462, Sept. 30, 2002. Section 411 was repealed as of October 15, 2002. Because FEMA's policy is to apply regulations in force on the date of a disaster declaration to all assistance provided during that disaster (which in this case is also the time that the policies were issued), we will set the coverage for GFIP based upon the same criteria used to adjust the maximum IFG grant amount under section 411 for GFIP polices issued for those disasters declared prior to the repeal of section 411. Since section 411 has been repealed, this adjustment is made solely for purposes of establishing the GFIP coverage amount for policies issued for disasters declared on or before October 14, 2002.

The Stafford Act prescribed that grants made under section 411, IFG program, shall be adjusted annually to reflect changes in the Consumer Price Index for All Urban Consumers published by the Department of Labor. If the IFG program were still in effect, the maximum grant amount for the IFG program under section 411 of the Act would have been increased to $15,800 for fiscal year 2005. As a result, the coverage amount for GFIP is adjusted to $15,800.

FEMA bases the adjustments on an increase in the Consumer Price Index for All Urban Consumers of 2.7 percent for the 12-month period that ended in August 2004. The Bureau of Labor Statistics of the U.S. Department of Labor released the information on September 16, 2004.

(Catalog of Federal Domestic Assistance No. 97.035, Individual and Family Grant Program)

Dated: October 18, 2004.
Michael D. Brown,
Under Secretary, Emergency Preparedness and Response, Department of Homeland Security.

[FR Doc. 04-23825 Filed 10-22-04; 8:45 am]

BILLING CODE 9110-10-P